DEPARTMENT OF HEALTH AND HUMAN SERVICES

45 CFR Parts 88 and 89

RIN 0991-AB46

Office of Global Health Affairs: Regulation on the Organizational Integrity of Entities That Are Implementing Programs and Activities Under the Leadership Act; Correction

OFFICE: Office of Global Health Affairs, HHS.

ACTION: Rule; Correction.

SUMMARY: This document corrects technical errors that appeared in the final rule published in the Federal Register on December 24, 2008, entitled “Regulation on the Organizational Integrity of Entities That Are Implementing Programs and Activities Under the Leadership Act” (73 FR 78997).

DATES: Effective January 20, 2009.

FOR FURTHER INFORMATION CONTACT: Jeanne Monahan, Office of Global Health Affairs, Hubert H. Humphrey Building, Room 639H, 200 Independence Avenue, SW., Washington, DC 20201, Tel: 202-690-6174, e-mail: Jeanne.monahan@hhs.gov.

SUPPLEMENTARY INFORMATION:

I. Background

In FR Doc. E8-30686, published on December 24, 2008 (73 FR 78997), there were technical errors that are identified and corrected in the Correction of Errors section below. The correction of errors identified in this correction notice do not change any policies contained in the final rule published December 24, 2008, and thus are effective as if they had been included in the final rule.

II. Summary of Errors

HHS published a final rule entitled “Regulation on the Organizational Integrity of Entities That Are Implementing Programs and Activities Under the Leadership Act.” This final rule provided for creation of a new Part 88 of 45 CFR. A final rule published on December 19, 2008 (73 FR 78071), entitled “Ensuring That Department of Health and Human Services Funds Do Not Support Coercive or Discriminatory Policies or Practices in Violation of Federal Law,” however, also purported to create a new Part 88. We are correcting this error by creating a new Part 89 and moving the regulatory text from the final rule published on December 24, 2008 (73 FR 78997) to Part 89. We are correcting text throughout the preamble and regulatory text to reflect this move.

III. Correction of Errors

In FR Doc. E8-30686, published on December 24, 2008 (73 FR 78997), make the following corrections:

[Corrections to the preamble]

1. On page 78997, in the heading, third line, “45 CFR Part 88” is corrected to read “45 CFR Part 89.”

2. On page 78998, in the first column, following the sixth full paragraph, the heading “Section 88.1 Definitions” is corrected to “Section 89.1 Definitions.”

3. On page 78998, in the second column, following the fifth paragraph, the heading “Section 88.2 Objective Integrity of Recipients” is corrected to “Section 89.2 Objective Integrity of Recipients.”

4. On page 78998, in the third column, in the first full paragraph, line 6, “section 88.3” is corrected to “section 89.3.”

5. On page 78998, in the third column, following the first full paragraph, the heading “Section 88.3 Certifications” is corrected to “Section 89.3 Certifications.”

6. On page 78998, in the third column, third full paragraph, line 3, “section 88.3(d)(1)” is corrected to “section 89.3(d)(1).”

7. On page 78998, in the third column, fourth full paragraph, lines 3-4, “section 88.3(d)(2) and (3)” is corrected to “section 89.3(d)(2) and (3).”

8. On page 79001, in the first column, following the second full paragraph, the heading “List of Subjects in the 45 CFR Part 88” is corrected to “List of Subjects in the 45 CFR Part 89.”

[Corrections to the regulatory text]

9. On page 79001, in the first column, in the words of issuance, immediately following paragraph captioned “Editorial Note,” revise the paragraph to read “For the reasons stated in the preamble, the Office of Global Health Affairs amends 45 CFR subtitle A to add Part 89 as follows:”

10. On page 79001, in the first column, in the part heading, “Part 88” is corrected to “Part 89.”

11. On page 79001, in the first column, in the table of contents, “88.1 Definitions” is corrected to “89.1 Definitions.”

12. On page 79001, in the first column, in the table of contents, “88.2 Organizational integrity of recipients” is corrected to “89.2 Organizational integrity of recipients.”

13. On page 79001, in the first column, in the table of contents, “88.3 Certifications” is corrected to “89.3 Certifications.”

14. On page 79001, in the first column, the heading “88.1 Definitions” is corrected to “89.1 Definitions.”

15. On page 79001, in the second column, the heading “88.2 Organizational integrity of recipients” is corrected to “89.2 Organizational integrity of recipients.”

16. On page 79001, in the third column, in newly redesignated § 89.2, in paragraph (b), “required by § 88.3” is corrected to “required by § 89.3.”

17. On page 79001, in the third column, the heading “88.3 Certifications” is corrected to “89.3 Certifications.”

Dated: January 12, 2009.
Ann C. Agnew,
Executive Secretary to the Department.

[FR Doc. E9-843 Filed 1-15-09; 8:45 am]

BILLING CODE 4150-28-P